DEPARTMENT OF TRANSPORTATION

Research and Special Programs Administration

[Docket RSPA-98-4957]

Submission for Office of Management and Budget Approval and Public Comment Request

AGENCY: Research and Special Programs Administration, Department of Transportation.

ACTION: Request for public comments and Office of Management and Budget (OMB) approval of an existing information collection.

SUMMARY: This notice seeks comments from the public regarding the need for RSPA to collect paperwork information from liquefied natural gas operators to ensure that these operators are properly operating and maintaining their facilities. This notice is published (pursuant to the Paperwork Reduction Act of 1995) to measure the need for the proposed paperwork collection, ways to minimize the burden on operators who must respond, ways to enhance the quality of information collected, and to verify the accuracy of the agency's estimate of the burden (measured in work hours) on pipeline operators. The RSPA published a notice on October 12, 2001, requesting public comment. No comments were received. This notice also seeks approval from the Office of Management and Budget to renew the existing approval of this paperwork collection.

DATES: Comments on this notice must be received by April 4, 2002 to assure consideration.

ADDRESSES: Comments should identify the docket number of this notice, RSPA-98-4957. Comments can be mailed directly to the Office of Regulatory Affairs, OMB, 726 Jackson Place, NW, Washington, DC 20503, ATTN: Desk Officer for the Department of Transportation.

Interested persons are invited to send comments regarding the burden estimate or any other aspect of this collection of information, including any of the following: (1) The necessity and utility of the proposed information collection for the proper performance of the agency's functions; (2) the accuracy of the estimated burden; (3) ways to enhance the quality, utility, and clarity of the information to be collected; and (4) the use of automated collection techniques or other forms of information technology to minimize the information collection burden.

FOR FURTHER INFORMATION CONTACT: Marvin Fell, Office of Pipeline Safety, RSPA, Department of Transportation, 400 Seventh Street, SW., Washington, DC 20590, (202) 366-6205 or by e-mail at marvin.fell@rspa.dot.gov.

SUPPLEMENTARY INFORMATION: 49 U.S.C. 60103 titled “Standards for Liquefied Natural Gas Pipeline Facilities” delegates the responsibility for ensuring safe operation of LNG facilities to the Secretary of Transportation. Regulations for enforcing this legislation are found in 49 CFR part 193 “Liquefied Natural Gas Facilities: Federal Safety Standards.” These regulations include recordkeeping requirements that allow Federal and State inspectors to ensure that these facilities are operated and maintained in a safe manner.

Type of Information Request: Renewal of an existing information collection.

Title of Information Collection: Recordkeeping for Liquid Natural Gas (LNG) Facilities.

OMB Approval Number: 2137-0048.

Frequency: On occasion.

Use: This collection is used by RSPA to ensure that LNG facilities are being operated in a safe manner.

Estimated Number of Respondents: 150.

Respondents: LNG facility operators.

Total Annual Hours Requested: 18,000 hours.

As used in this notice, the terms “information collection” and “paperwork collection” are synonymous, and include all work related to preparing and disseminating information related to this recordkeeping requirement including completing paperwork, gathering information and conducting telephone calls.

Issued in Washington, DC, on February 20, 2002.
Stacey L. Gerard,
Associate Administrator for Pipeline Safety.

[FR Doc. 02-4477 Filed 3-4-02; 8:45 am]

BILLING CODE 4910-60-P